DEPARTMENT OF ENERGY

Federal Energy Regulatory Commission

18 CFR Part 4

[Docket No. RM02-16-000]

Hydroelectric Licensing Under the Federal Power Act; Correction

Correction

In rule document 03-27405 beginning on page 61742 in the issue of Thursday, October 30, 2003, make the following correction:

§ 4.41 [Corrected]

On page 61742, in the second column, in § 4.41, in amendatory instruction 10b., in the fifth line, “+40” should read “±40”.

[FR Doc. C3-27405 Filed 11-6-03; 8:45 am]

BILLING CODE 1505-01-D

FEDERAL RESERVE SYSTEM

[Docket No. R-1152]

Federal Reserve Bank Services Imputed Investment Income on Clearing Balances

Correction

In notice document 03-27124 beginning on page 61413 in the issue of Tuesday, October 28, 2003, make the following corrections:

1. On page 61417, in the second column, in footnote 27, in the first line, “$5.473” should read “$5,473”.

2. On the same page, in the same column, in the same footnote, in the second line, “$5.892” should read “$5,892”.

3. On the same page, in the same column, in the same footnote, in the fifth line, “$10.302” should read “$10,302”.

[FR Doc. C3-27124 Filed 11-6-03; 8:45 am]

BILLING CODE 1505-01-D